DEPARTMENT OF COMMERCE

National Oceanic and Atmospheric Administration

50 CFR Part 648

[Docket No. 151211999-6343-02]

RIN 0648-XG607

Fisheries of the Northeastern United States; Northeast Multispecies Fishery; Georges Bank Cod Trip Limit Adjustment for the Common Pool Fishery

AGENCY: National Marine Fisheries Service (NMFS), National Oceanic and Atmospheric Administration (NOAA), Commerce.

ACTION: Temporary rule; inseason adjustment.

SUMMARY: This action adjusts the possession and trip limits of Georges Bank cod for Northeast multispecies common pool vessels for the remainder of the 2018 fishing year, in order to ensure that the common pool fishery is able to harvest, but not exceed, its annual quota for the stock. These changes are intended to provide the common pool fishery with additional fishing opportunities.

DATES: These possession and trip limit adjustment are effective November 29, 2018, through April 30, 2019.

FOR FURTHER INFORMATION CONTACT: Spencer Talmage, Fishery Management Specialist, 978-281-9232.

SUPPLEMENTARY INFORMATION:

Possession and Trip Limit Increase for Georges Bank Cod

The regulations at § 648.86(o) authorize the Regional Administrator to adjust the possession and trip limits for common pool vessels in order to help avoid the overharvest or underharvest of the common pool quotas.

Based on information reported through October 13, 2018, the common pool fishery has caught 5,797 lb (2.6 mt) of Georges Bank (GB) cod, or approximately 11 percent of its 53,374 lb (24.2 mt) annual quota. At the current rate of fishing, the common pool fishery is not projected to fully harvest its annual quota for the stock by the end of the 2018 fishing year. A moderate increase in the possession and trip limits for the stock will provide additional opportunities with little risk of exceeding the common pool quota of the stock.

Effective November 29, 2018, the possession and trip limit of GB cod is increased, as summarized in Table 1. Common pool groundfish vessels that have declared their trip through the vessel monitoring system (VMS) or interactive voice response system, and crossed the VMS demarcation line prior to November 29, 2018, may land at the new possession and trip limits for that trip.

Table 1—Current and New Possession and Trip Limits for GB Cod
Permit type | Current possession/trip limits | New possession/trip limits
Day-At-Sea (DAS) | 100 lb (45.4 kg) per DAS, up to 200 lb (90.7 kg) per trip (Outside of the Eastern U.S./Canada Area) 100 lb (45.4 kg) per DAS, up to 500 lb (226.8 kg) per trip (Inside the Eastern U.S./Canada Area) | 250 lb (113.4 kg) per DAS, up to 500 lb (226.8 kg) per trip.
Handgear A | 100 lb (45.4 kg) per trip | 250 lb (113.4 kg) per trip.
Handgear B | 25 lb (11.3 kg) per trip | unchanged.
Small Vessel Category * | 100 lb (45.4 kg) per trip | 250 lb (113.4 kg) per trip.
* The Small Vessel Category trip limit of 300 lb of cod, yellowtail flounder, and haddock combined remains in place.

Reduction of the GB Cod Trip Limit in the Closed Area II Haddock Special Access Program

The projection supporting the increase of the common pool possession and trip limits for GB cod is based on the assumption that the common pool fleet fishes primarily within the Western U.S./Canada area, outside of any Special Access Programs (SAPs), as it has done for several years. As described in 50 CFR 648.85(b), SAPs are established to authorize specific fisheries to allow increased yield of certain target stocks without undermining the achievement of the goals of the Northeast Multispecies Fishery Management Plan. The Closed Area II Haddock SAP (CA2 SAP) has a limit of 1,000 lb (453.6 kg) per trip of GB cod, which is double the GB cod trip limit for common pool vessels not participating in the SAPs.

Under a worst-case scenario projection, the common pool fleet could take up to 12 trips within the CA2 SAP at 1,000 lb (453.6 kg) per trip. In this scenario, the common pool could potentially land the entire common pool Eastern GB cod sub-ACL of 11,500 lb (5.2 mt), and could substantially contribute to exceeding the entire common pool GB cod sub-ACL.

In order to avoid this worst case scenario that would contribute to the common pool exceeding its quotas, effective November 29, 2018, the trip limit of GB cod for common pool vessels participating in the CA2 SAP is set to 500 lb (226.8 kg) per trip. In addition, this change may help avoid confusion and facilitate enforcement by making the CA2 SAP GB cod trip limit consistent with other common pool limits for the stock.

Common pool groundfish vessels participating in the affected SAPs that have declared their trip through the vessel monitoring system (VMS) or interactive voice response system, and crossed the VMS demarcation line prior to November 29, 2018, are not subject new possession and trip limits for that trip.

Weekly quota monitoring reports for the common pool fishery can be found on our website at: http://www.greateratlantic.fisheries.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The catch data used as the basis for this action only recently became available. The available analysis indicates that the increased possession and trip limit adjustments for GB cod will help the fishery achieve the optimum yield (OY) for this stock. Any delay in this action would limit the benefits to common pool vessels that this action is intended to provide.

The decrease in the CA2 SAP trip limit reduces the low likelihood of overages should vessels participate in the CA2 SAP. An overage of the common pool quota for this stock would undermine conservation objectives and trigger the implementation of accountability measures that could reduce available catch in the next fishing year, which would have negative economic impacts on the common pool fishery.

The time necessary to provide for prior notice and comment, and a 30-day delay in effectiveness, would keep NMFS from implementing the necessary possession and trip limit changes in a timely manner, which could prevent the fishery from achieving the OY and cause negative economic impacts to the common pool fishery.

Authority: 16 U.S.C. 1801 et seq.

Dated: November 26, 2018.
Karen H. Abrams,
Acting Director, Office of Sustainable Fisheries, National Marine Fisheries Service.

[FR Doc. 2018-26072 Filed 11-29-18; 8:45 am]

BILLING CODE 3510-22-P